DEPARTMENT OF COMMERCE

Bureau of Industry and Security

15 CFR Part 750

[Docket No. 041001275-4331-02]

RIN 0694-AD05

Correction to Revision of Licensee's Responsibility To Communicate License Conditions

AGENCY: Bureau of Industry and Security, Commerce.

ACTION: Interim rule; Correction.

SUMMARY: The Bureau of Industry and Security is correcting an interim rule that appeared in the Federal Register of November 23, 2004 (67 FR 68076). The rule amended the regulations to require licensees to communicate in writing specific licensing conditions. This rule amends the Export Administration Regulations (EAR) by correcting an error by inserting regulatory text inadvertently omitted.

DATES: This correction is effective: November 23, 2004.

FOR FURTHER INFORMATION CONTACT: Jeffery Lynch, Regulatory Policy Division, Office of Exporter Services, Bureau of Industry and Security; e-mail: jlynch@bis.doc.gov.

SUPPLEMENTARY INFORMATION: This rule amends the document appearing on page 68077 of the Federal Register of Thursday, November 23, 2004. BIS amends the rule to correct an error in the interim rule requiring licensees to communicate in writing specific license conditions to the parties to whom the license conditions apply.

§ 750.7 [Corrected]

1. On page 68077 of the Federal Register, in the second column, amendment number 3 to section 750.7 is corrected to read as follows: “It is the licensee's responsibility to communicate in writing the specific license conditions to the parties to whom those conditions apply.”

Rulemaking Requirements

1. This rule has been determined to be not significant for purposes of E.O. 12866.

2. Notwithstanding any other provision of law, no person is required to respond to, nor shall any person be subject to a penalty for failure to comply with a collection of information, subject to the requirements of the Paperwork Reduction Act of 1995 (44 U.S.C. 3501et seq.) (PRA), unless that collection of information displays a currently valid Office of Management and Budget (OMB) Control Number. This rule involves a collection of information subject to the PRA. This collection has been approved by OMB under control number 0694-0122, “Multi-Purpose Application,” which carries a burden hour estimate of 10 minutes for a manual or electronic submission. Send comments regarding these burden estimates or any other aspect of this collection of information, including suggestions for reducing the burden, to David Rostker, Office of Management and Budget (OMB), by e-mail to David_Rostker@omb.eop.gov, or by fax to (202) 395-7285; and to the Office of Administration, Bureau of Industry and Security, Department of Commerce, 14th and Pennsylvania Avenue, NW., Room 6883, Washington, DC 20230.

3. This rule does not contain policies with federalism implications as that term is defined under E.O. 13132.

4. The Department finds under 5 U.S.C. 553(b)(B) that good cause exists to waive prior notice and opportunity for public comment. This rule revises the EAR to require licensees to communicate in writing specific license conditions to the parties to whom they apply. This rule merely clarifies the identify of the person to whom the notice must be provided. The previously existing EAR requirement to provide such notice is unchanged by this rule. Because the rule containing the error has not become effective, this correction is not a substantive change to the EAR. Accordingly, it is unnecessary to provide prior notice and opportunity for public comment. Therefore, this rule is being issued in final form.

Although there is no formal comment period, public comments on this regulation are welcome on a continuing basis. Comments should be submitted to Jeffrey Lynch, Regulatory Policy Division, Office of Exporter Services, Bureau of Industry and Security, P.O. Box 273, Washington, DC 20044, e-mailed to: jlynch@bis.doc.gov, or faxed to (202) 482-3355. The public record concerning this regulation will be maintained in the Bureau of Industry and Security Freedom of Information Records Inspection Facility, Room 6881, Department of Commerce, 14th Street and Pennsylvania Avenue, NW., Washington, DC 20230. Records in this facility may be inspected and copied in accordance with regulations published in part 4 of Title 15 of the Code of Federal Regulations. Information about the inspection and copying of records at the facility may be obtained from the Bureau of Industry and Security Freedom of Information Officer, at the above address or by calling (202) 482-0500. List of Subjects for 15 CFR Part 750 Administrative practice and procedure, Exports, Reporting and recordkeeping requirements.

Eileen Albanese,
Director, Office of Exporter Services.

[FR Doc. 04-26518 Filed 11-30-04; 8:45 am]

BILLING CODE 3510-33-P